DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2011, there were seven applications approved. This notice also includes information on one application, approved in May 2011, inadvertently left off the May 2011 notice. Additionally, 18 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Springfield Airport Authority, Springfield, Illinois.

Application Number: 11-12-C-00-SPI.

Application Type: Impose and use a PFC.

PFC Level: $4.50.

Total PFC Revenue Approved in this Decision: $1,122,457.

Earliest Charge Effective Date: December 1, 2011.

Estimated Charge Expiration Date: July 1, 2016.

Class of Air Carriers Not Required to Collect PFC'S:Nonscheduled/on-demand air carriers filing FAA Form 1800-31.

Determination: Approved. Based on information submitted in the public agency's application, the FAA has determined that the proposed class accounts for less than 1 percent of the total annual enplanements at Abraham Lincoln Capital Airport.

Brief Description of Projects Approved for Collection and Use:

Seelbach property I—runway approach protection.

Seelbach property II—runway approach protection.

Gatschenberger property I—runway approach protection.

Gatschenberger property II—runway approach protection.

Woods property—runway approach protection.

Ingram property—runway approach protection.

Myers property—runway approach protection.

West property—runway approach protection.

Acquire vacuum sweeper vehicle (with liquid recovery), snow plow vehicle and snow plows.

Snow removal equipment broom.

Acquire aircraft rescue and firefighting vehicle and rehabilitate aircraft rescue and firefighting building.

Wildlife study.

Update airport layout plan/geographic information system/Exhibit A update.

Perimeter fence, phase 2.

Perimeter fence, phase 3.

Security system construction.

Terminal lighting and ceiling rehabilitation.

Terminal boiler plant renovation.

Upgrade terminal fire alarm system, phase 2.

Terminal parking lot reconfiguration/rehabilitation.

Terminal passenger services area improvements.

Terminal Americans with Disabilities Act improvements.

Install runway guard lights.

North quadrant general aviation ramp.

Taxiway G widening and access taxiway construction.

Taxiway Yankee phase 1 design.

Runway 13/31 rehabilitation, phase 1.

Runway 13/31 rehabilitation, phase 2.

Runway 18/36 rehabilitation.

Decision Date: May 31, 2011.

For Further Information Contact: Chad Oliver, Chicago Airports District Office, (847) 294-7199.

Public Agency: Birmingham Airport Authority, Birmingham, Alabama.

Application Number: 11-10-U-00-BHM.

Application Type: Use PFC revenue.

PFC Level: $4.50.

Total PFC Revenue Approved for Use in this Decision: $4,133,110.

Earliest Charge Effective Date: July 1, 2010.

Estimated Charge Expiration Date: February 1, 2031.

Class of Air Carriers Not Required to Collect PFC'S: No change from previous decision.

Brief Description of PROJECT APPROVED for Use: Terminal demolition.

Decision Date: June 2, 2011.

For Further Information Contact: Jonathan Linguist, Jackson Airports District Office, (601) 664-9893.

Public Agency: County of Broward, Fort Lauderdale, Florida.

Application Number: 11-12-C-00-FLL.

Application Type: Impose and use a PFC.

PFC Level: $4.50.

Total PFC Revenue Approved in this Decision: $1,102,698,394.

Earliest Charge Effective Date: January 1, 2018.

Estimated Charge Expiration Date: September 1, 2030.

Class of Air Carriers Not Required to Collect PFC'S: Nonscheduled/on-demand air carriers.

Determination: Approved. Based on information submitted in the public agency's application, the FAA has determined that the proposed class accounts for less than 1 percent of the total annual enplanements at Fort Lauderdale/Hollywood International Airport.

Brief Description of Projects Approved for Collection and Use at a $4.50 PFC Level:

Terminal 4—design for eastern expansion.

Security access control system.

Replace old airfield signage.

Land acquisition and demolition related to expansion of runway 10R/28L.

Brief Description Of Project Partially Approved for Collection and Use at a $4.50 PFC LEVEL: Runway 10R/28L expansion and enabling projects.

Determination: The public agency proposed that PFCs finance 35-foot wide runway and taxiway shoulders. The FAA found that only 25-foot wide shoulders were eligible and justified.

Brief Description of Project Approved for Collection and USE at a $3.00 PFC Level: In-roadway crosswalk warning lights.

Brief Description of Disapproved Project: Geographic information system—implementation.

Determination: The FAA determined that this project did not meet the requirements of § 158.15(b).

Decision Date: June 6, 2011.

For Further Information Contact: Susan Moore, Orlando Airports District Office, (407) 812-6331.

Public Agency: Monterey Peninsula Airport District, Monterey, California.

Application Number: 11-17-C-00-MRY.

Application Type: Impose and use a PFC.

PFC Level: $4.50.

Total PFC Revenue Approved in this Decision: $775,000.

Earliest Charge Effective Date: December 1, 2011.

Estimated Charge Expiration Date: December 1, 2012.

Class of Air Carriers Not Required to Collect PFC'S: Nonscheduled/on-demand air carriers filing FAA Form 1800-31.

Determination: Approved. Based on information submitted in the public agency's application, the FAA has determined that the proposed class accounts for less than 1 percent of the total annual enplanements at Monterey Peninsula Airport.

Brief Description of Projects Approved for Collection and Use: Runway 10R/28L safety area construction, phase 2. Terminal improvements—weather protection canopies.

Decision Date: June 9, 2011.

For Further Information Contact: Gretchen Kelly, San Francisco Airports District Office, (650) 876-2778, extension 623.

Public Agency: Piedmont Triad Airport Authority, Greensboro, North Carolina.

Application Number: 11-01-C-00-GSO.

Application Type: Impose and use a PFC.

PFC Level: $4.50.

Total PFC Revenue Approved in this Decision: $43,872,158.

Earliest Charge Effective Date: September 1, 2011.

Estimated Charge Expiration Date: May 1, 2022.

Class of Air Carriers Not Required to Collect PFC'S: Air taxi/commercial operators.

Determination: Approved. Based on information submitted in the public agency's application, the FAA has determined that the proposed class accounts for less than 1 percent of the total annual enplanements at Piedmont Triad International Airport.

Brief Description of projects Approved for Collection and Use:

Runway 5L/23R construction.

Terminal expansion—security checkpoints.

Decision Date: June 10, 2011.

For Further Information Contact: John Marshall, Atlanta Airports District Office, (404) 305-7153.

Public Agency: City of Kansas City, Missouri.

Application Number: 11-07-U-00-MCI.

Application Type: Use PFC revenue.

PFC Level: $3.00.

Total PFC Revenue Approved for Use in this Decision: $11,000,000.

Earliest Charge Effective Date: July 1, 2014.

Estimated Charge Expiration Date: June 1, 2015.

Class of Air Carriers Not Required to Collect PFC'S: No change from previous decision.

Brief Description of Projects Approved for Use: Airfield sand and deicing facility.

Airfield snow removal equipment building.

Decision Date: June 15, 2011.

For Further Information Contact: Todd Madison, Central Region Airports Division, (816) 329-2640.

Public Agency: City of Colorado Springs, Colorado.

Application Number: 11-18-C-00-COS.

Application Type: Impose and use a PFC.

PFC Level: $3.00.

Total PFC Revenue Approved in this Decision: $4,490,089.

Earliest Charge Effective Date: August 1, 2013.

Estimated Charge Expiration Date: April 1, 2015.

Class of Air Carriers Not Required to Collect PFC'S: None.

Brief Description of Projects Approved for Collection and Use:

Rehabilitation of taxiways M and F (phase 1)—design.

Rehabilitation of taxiways E, G and H (phase III).

Fleet improvement (phase IV).

Airfield guidance signs and surface painted holding position signs.

Security checkpoint expansion.

Decision Date: June 22, 2011.

For Further Information Contact: Chris Schaffer, Denver Airports District Office, (303) 342-1258.

Public Agency: City of Eugene, Oregon.

Application Number: 11-11-C-00-EUG.

Application Type: Impose and use a PFC.

PFC Level: $4.50.

Total PFC Revenue Approved in this Decision: $5,513,282.

Earliest Charge Effective Date: May 1, 2012.

Estimated Charge Expiration Date: December 1, 2014.

Class of Air Carriers Not Required to Collect PFC'S:

Nonscheduled/on-demand air carriers filing FAA Form 1800-31.

Determination: Approved. Based on information submitted in the public agency's application, the FAA has determined that the proposed class accounts for less than 1 percent of the total annual enplanements at Mahlon Sweet Field.

Brief Description of Projects Approved for Collection and Use: Terminal checkpoint reconfiguration. Baggage claim expansion. North terminal stairway enclosure.

Decision Date: June 23, 2011.

For Further Information Contact: Trang Tran, Seattle Airports District Office, (425) 227-1662.

Amendments to PFC Approvals
Amendment No. city, state | Amendment approved date | Original approved net PFC revenue | Amended approved net PFC revenue | Original estimated charge exp. date | Amended estimated charge exp. date
06-05-C-01-CLL, College Station, TX | 06/01/11 | $799,557 | $755,492 | 04/01/09 | 04/01/09
06-05-C-03-MOB, Mobile, AL | 06/02/11 | 4,835,101 | 4,850,267 | 02/01/12 | 06/01/15
07-02-C-01-ECP, Panama City, FL | 06/02/11 | 41,968,640 | 41,968,640 | 04/01/39 | 04/01/39
92-01-C-06-STL, St. Louis, MO | 06/02/11 | 58,088,964 | 84,607,850 | 08/01/95 | 03/01/95
06-06-C-01-RSW, Fort Myers, FL | 06/03/11 | 6,932,692 | 4,846,352 | 02/01/15 | 11/01/14
05-05-C-06-SJU, San Juan, PR | 06/07/11 | 499,314,667 | 479,036,578 | 08/01/31 | 06/01/30
09-06-C-01-FNL, Loveland, CO | 06/08/11 | 350,000 | 470,000 | 01/01/13 | 12/01/11
01-04-C-01-IMT, Iron Mountain, MI | 06/09/11 | 73,815 | 45,815 | 06/01/04 | 06/01/04
08-13-C-01-MRY, Monterey, CA | 06/09/11 | 856,394 | 573,074 | 08/01/09 | 08/01/09
10-11-C-01-ATL, Atlanta, GA | 06/14/11 | 422,480,178 | 422,480,178 | 01/01/23 | 01/01/23
10-12-C-01-ATL, Atlanta, GA | 06/14/11 | 19,332,000 | 19,332,000 | 03/01/23 | 03/01/23
07-09-C-01-DBQ, Dubuque, IA | 06/14/11 | 885,694 | 28,654 | 10/01/15 | 10/01/15
07-09-C-02-DBQ, Dubuque, IA | 06/16/11 | 28,654 | 0 | 10/01/15 | 10/01/15
07-03-C-02-HRL, Harlingen, TX | 06/16/11 | 3,590,824 | 3,876,104 | 07/01/09 | 07/01/09
95-01-C-01-MMH, Monterey, CA | 06/17/11 | 166,632 | 0 | 09/01/02 | 09/01/05
*03-02-C-01-SFB, Orlando, FL | 06/17/11 | 13,312,090 | 13,312,090 | 07/01/14 | 12/01/12
09-14-C-01-MRY, Monterey, CA | 06/24/11 | 980,026 | 909,255 | 08/01/10 | 12/01/10
11-16-U-03-MRY, Monterey, CA | 06/24/11 | NA | NA | 12/01/11 | 12/01/11.
Notes: The amendment denoted by an asterisk (*) include a change to the PFC level charged from $2.00 per enplaned passenger to $4.00 per enplaned passenger. For Orlando, FL, this change is effective on September 1, 2011.

Issued in Washington, DC, on July 7, 2011.
Joe Hebert,
Manager, Financial Analysis and Passenger Facility Charge Branch.

[FR Doc. 2011-17968 Filed 7-19-11; 8:45 am]

BILLING CODE 4910-13-M